DEPARTMENT OF TRANSPORTATION

Federal Aviation Administration

14 CFR Part 39

[Docket No. FAA-2012-1073; Directorate Identifier 2012-NM-078-AD; Amendment 39-17430; AD 2013-08-13]

RIN 2120-AA64

Airworthiness Directives; The Boeing Company Airplanes

AGENCY: Federal Aviation Administration (FAA), DOT.

ACTION: Final rule.

SUMMARY: We are adopting a new airworthiness directive (AD) for certain The Boeing Company Model 767-300 series airplanes. This AD was prompted by a report that certain airplanes might not have reinforcement straps installed on the center overhead stowage bins in the passenger compartment, and some installed reinforcement straps might not have been bonded. For certain airplanes, this AD requires performing an inspection of reinforcement straps to ensure they are correctly bonded to the center overhead stowage bins, and bonding the reinforcement straps to the center overhead stowage bins if necessary. For certain airplanes, this AD requires installing reinforcement straps on the center overhead stowage bins. We are issuing this AD to prevent missing or incorrectly bonded reinforcement straps, which could result in the center overhead stowage bins breaking loose at forward load levels less than 9g during an emergency landing, causing injury to passengers and delaying emergency evacuation.

DATES: This AD is effective June 5, 2013.

The Director of the Federal Register approved the incorporation by reference of a certain publication listed in the AD as of June 5, 2013.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Sarah Piccola, Aerospace Engineer, Cabin Safety and Environmental Systems Branch, ANM-150S, FAA, Seattle Aircraft Certification Office, 1601 Lind Avenue SW., Renton, Washington 98057-3356; phone: 425-917-6483; fax: 425-917-6590; email: sarah.piccola@faa.gov.

SUPPLEMENTARY INFORMATION:

Discussion

We issued a notice of proposed rulemaking (NPRM) to amend 14 CFR part 39 to include an AD that would apply to the specified products. That NPRM published in the Federal Register on October 16, 2012 (77 FR 63266). That NPRM proposed to require, for certain airplanes, performing an inspection of reinforcement straps to ensure they are correctly bonded to the center overhead stowage bins, and bonding the reinforcement straps to the center overhead stowage bins if necessary. For certain airplanes, that NPRM also proposed installing reinforcement straps on the center overhead stowage bins.

Comments

We gave the public the opportunity to participate in developing this AD. The following presents the comments received on the proposal (77 FR 63266, October 16, 2012) and the FAA's response to each comment.

Aviation Partners Boeing stated that the installation of winglets per supplemental type certificate (STC) ST01920SE (http://rgl.faa.gov/Regulatory_and_Guidance_Library/rgstc.nsf/0/59027f43b9a7486e86257b1d006591ee/$FILE/ST01920SE.pdf) does not affect the accomplishment of the manufacturer's service instructions.

Request To Remove Reference to “In-flight Turbulence”

Boeing requested that the potential injury statement that appears in the Summary paragraph, Discussion paragraph, and paragraph (e), “Unsafe Condition,” of the NPRM (77 FR 63266, October 16, 2012) be revised to remove the reference to in-flight turbulence. Boeing suggested that the potential injury statement should specify the requirements associated with section 25.561(b)(3)(ii) (“9.0g Forward loads”) of the Federal Aviation Regulations (14 CFR 25.561). Boeing stated that Boeing Special Attention Service Bulletin 767-25-0520, dated February 8, 2012, and associated certification data, refer only to 9.0g forward loads and not in-flight loads.

Based on the reasons provided by the commenter, we agree to revise the potential injury statement by deleting the reference to “in-flight turbulence” and including a reference to 9g forward loads. The potential injury statement in this AD states “We are issuing this AD to prevent missing or incorrectly bonded reinforcement straps, which could result in the center overhead stowage bins breaking loose at forward load levels less than 9g during an emergency landing, causing injury to passengers and delaying emergency evacuation.”

The revised potential injury statement appears in the Summary paragraph and paragraph (e) of this AD. The potential injury statement is not restated in the Discussion paragraph of this AD, so no change is needed to that paragraph.

Request To Clarify Precipatory Event

Boeing requested that paragraph (e), “Unsafe Condition,” in the NPRM (77 FR 63266, October 16, 2012) be revised so the first sentence states that “certain airplanes (1) may not have reinforcement straps installed and (2) may not have been bonded at some center overhead stowage bin locations.” The suggested text is from Boeing Special Attention Service Bulletin 767-25-0520, dated February 8, 2012. Boeing noted that the NPRM does not address condition (1) and is not consistent with condition (2).

We agree with Boeing's request to revise the wording that describes what prompted this AD. Boeing's suggested changes clarify the conditions that operators may encounter when complying with the actions required by this AD. The revised statement appears in the Summary paragraph and paragraph (e) of this AD.

Request To Revise the “Relevant Service Information” Paragraph

Boeing requested that the text in the “Relevant Service Information” paragraph of the NPRM (77 FR 63266, October 16, 2012) be changed so the language within the NPRM and the language between the NPRM and Boeing Special Attention Service Bulletin 767-25-0520, dated February 8, 2012, is consistent. Boeing suggested that in the second sentence of that paragraph, beginning with “For certain airplanes, this service bulletin describes procedures for general visual and detailed inspection of the existing reinforcement straps installed on the center overhead storage bins . . ..” “storage” be changed to “stowage.” Boeing also suggested that the third sentence of that paragraph, beginning with “For airplanes on which the straps are incorrectly bonded . . . .” be revised to delete “are incorrectly bonded” and insert “may not be bonded or were inadvertently missed.”

Boeing also requested that the last sentence in the “Relevant Service Information” paragraph be removed and the sentence prior to that one, beginning with “For airplanes on which the straps are incorrectly bonded, this service bulletin describes procedures for bonding the reinforcement straps . . . .” be revised to read, “. . . bonding and installation of the reinforcement straps . . . .” Boeing stated that these changes would provide clarity to the operators.

We agree that the suggestions made by the commenter provide a more accurate description of the information in Boeing Special Attention Service Bulletin 767-25-0520, dated February 8, 2012; however, the “Relevant Service Information” paragraph is not restated in this AD, so no change has been made to this AD in this regard.

Explanation of Change Made to This AD

We have added a new paragraph (h)(3) to this final rule to allow delegation of repairs to the Boeing Commercial Airplanes Organization Designation Authorization (ODA).

Conclusion

We reviewed the relevant data, considered the comments received, and determined that air safety and the public interest require adopting the AD with the changes described previously-and minor editorial changes. We have determined that these minor changes:

• Αre consistent with the intent that was proposed in the NPRM (77 FR 63266, October 16, 2012) for correcting the unsafe condition; and

• Do not add any additional burden upon the public than was already proposed in the NPRM (77 FR 63266, October 16, 2012).

We also determined that these changes will not increase the economic burden on any operator or increase the scope of the AD.

Costs of Compliance

We estimate that this AD affects 4 airplanes of U.S. registry.

We estimate the following costs to comply with this AD:

Estimated Costs
Action | Labor cost | Parts cost | Cost per product | Cost on U.S. operators
Group 1 and Group 2 Airplanes: General Visual Inspection for Correct Bonding | 2 work-hours × $85 per hour = $170 | $0 | $170 | $340 (2 airplanes).
Group 1 and Group 3 Airplanes: Install Reinforcement Straps | 7 work-hours × $85 per hour = $595 | $1,277 or $1,746 | $1,872 or $2,341 | Up to $4,682 (2 airplanes).

We estimate the following costs to do any necessary repairs that would be required based on the results of the inspection. We have no way of determining the number of aircraft that might need this repair:

On-Condition Costs
Action | Labor cost | Parts cost | Cost per product
Group 1 and Group 2 Airplanes: Bonding Existing Reinforcement Straps to the Center Overhead Stowage Bins | Between 7 and 12 work-hours × $85 per hour = $595 to $1,020 | $0 | Between $595 and $1,020.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-08-13 The Boeing Company: Amendment 39-17430; Docket No. FAA-2012-1073; Directorate Identifier 2012-NM-078-AD.

(a) Effective Date

This AD is effective June 5, 2013.

(b) Affected ADs

None.

(c) Applicability

This AD applies to The Boeing Company Model 767-300 series airplanes, certificated in any category, as identified in Boeing Special Attention Service Bulletin 767-25-0520, dated February 8, 2012.

(d) Subject

Joint Aircraft System Component (JASC) Code 2520, Passenger Compartment Equipment.

(e) Unsafe Condition

This AD was prompted by a report that certain airplanes might not have reinforcement straps installed on the center overhead stowage bins in the passenger compartment, and some installed reinforcement straps might not have been bonded. We are issuing this AD to prevent missing or incorrectly bonded reinforcement straps, which could result in the center overhead stowage bins breaking loose at forward load levels less than 9g during an emergency landing, causing injury to passengers and delaying emergency evacuation.

(f) Compliance

Comply with this AD within the compliance times specified, unless already done.

(g) Inspection, Bonding, and Installation of Reinforcement Straps

Within 36 months after the effective date of this AD, do a general visual or detailed inspection to determine the condition of the reinforcement straps for the center overhead stowage bins, and bond the reinforcement straps to the stowage bins as applicable; and install reinforcement straps as applicable; in accordance with the Accomplishment Instructions of Boeing Special Attention Service Bulletin 767-25-0520, dated February 8, 2012.

(h) Alternative Methods of Compliance (AMOCs)

(1) The Manager, Seattle Aircraft Certification Office (ACO), ANM-150S, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplane Organization Designation Authorization (ODA) that has been authorized by the Manager, Seattle ACO, to make those findings. For a repair method to be approved, the repair must meet the certification basis of the airplane, and the approval must specifically refer to this AD.

(i) Related Information

For more information about this AD, contact Sarah Piccola, Aerospace Engineer, Cabin Safety and Environmental Systems Branch, ANM-150S, FAA, Seattle Aircraft Certification Office, 1601 Lind Avenue SW., Renton, Washington 98057-3356; phone: (425) 917-6483; fax: (425) 917-6590; email: sarah.piccola@faa.gov.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Special Attention Service Bulletin 767-25-0520, dated February 8, 2012.

(ii) Reserved.

(3) For Boeing service information identified in this AD, contact Boeing Commercial Airplanes, Attention: Data & Services Management, P. O. Box 3707, MC 2H-65, Seattle, WA 98124-2207; telephone (206) 544-5000, extension 1; fax (206) 766-5680; Internet https://www.myboeingfleet.com. You may review copies of the referenced service information at the FAA, Transport Airplane Directorate, 1601 Lind Avenue SW., Renton, Washington. For information on the availability of this material at the FAA, call 425-227-1221.

(4) You may view this service information at FAA, 1601 Lind Avenue SW., Renton, Washington 98057-3356. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on April 10, 2013.
Jeffrey E. Duven,
Acting Manager, Transport Airplane Directorate, Aircraft Certification Service.

[FR Doc. 2013-09202 Filed 4-30-13; 8:45 am]

BILLING CODE 4910-13-P